DEPARTMENT OF HEALTH AND HUMAN SERVICES

Substance Abuse and Mental Health Services Administration

Current List of Laboratories Which Meet Minimum Standards To Engage in Urine Drug Testing for Federal Agencies

AGENCY: Substance Abuse and Mental Health Services Administration, HHS.

ACTION: Notice.

SUMMARY: The Department of Health and Human Services (HHS) notifies Federal agencies of the laboratories currently certified to meet the standards of Subpart C of the Mandatory Guidelines for Federal Workplace Drug Testing Programs (Mandatory Guidelines) published in the Federal Register on April 11, 1988 (53 FR 11970), and revised in the Federal Register on June 9, 1994 (59 FR 29908) and on September 30, 1997 (62 FR 51118). A notice listing all currently certified laboratories is published in the Federal Register during the first week of each month. If any laboratory's certification is suspended or revoked, the laboratory will be omitted from subsequent lists until such time as it is restored to full certification under the Mandatory Guidelines.

If any laboratory has withdrawn from HHS' National Laboratory Certification Program (NLCP) during the past month, it will be listed at the end, and will be omitted from the monthly listing thereafter.

This notice is also available on the Internet at http://workplace.samhsa.gov and http://www.drugfreeworkplace.gov.

FOR FURTHER INFORMATION CONTACT: Mrs. Giselle Hersh or Dr. Walter Vogl, Division of Workplace Programs, 5600 Fishers Lane, Rockwall 2, Room 815, Rockville, Maryland 20857; 301-443-6014 (voice), 301-443-3031 (fax).

SUPPLEMENTARY INFORMATION: The Mandatory Guidelines were developed in accordance with Executive Order 12564 and section 503 of Pub. L. 100-71. Subpart C of the Guidelines, “Certification of Laboratories Engaged in Urine Drug Testing for Federal Agencies,” sets strict standards that laboratories must meet in order to conduct urine drug testing for Federal agencies. To become certified, an applicant laboratory must undergo three rounds of performance testing plus an on-site inspection.

To maintain that certification, a laboratory must participate in a quarterly performance testing program plus periodic, on-site inspections.

Laboratories which claim to be in the applicant stage of certification are not to be considered as meeting the minimum requirements expressed in the HHS Mandatory Guidelines. A laboratory must have its letter of certification from HHS/SAMHSA (formerly: HHS/NIDA) which attests that it has met minimum standards.

In accordance with Subpart C of the Mandatory Guidelines, the following laboratories meet the minimum standards set forth in the Mandatory Guidelines:

ACL Laboratories 8901 W. Lincoln Ave.

West Allis, WI 53227

414-328-7840 / 800-877-7016

(Formerly: Bayshore Clinical Laboratory)

ACM Medical Laboratory, Inc.

160 Elmgrove Park

Rochester, NY 14624

585-429-2264

Advanced Toxicology Network

3560 Air Center Cove, Suite 101

Memphis, TN 38118

901-794-5770 / 888-290-1150

Aegis Analytical Laboratories, Inc.

345 Hill Ave.

Nashville, TN 37210

615-255-2400

Baptist Medical Center-Toxicology Laboratory

9601 I-630, Exit 7

Little Rock, AR 72205-7299

501-202-2783

(Formerly: Forensic Toxicology Laboratory Baptist Medical Center)

Clinical Reference Lab

8433 Quivira Rd.

Lenexa, KS 66215-2802

800-445-6917

Diagnostic Services Inc., dba DSI

12700 Westlinks Dr.

Fort Myers, FL 33913

239-561-8200 / 800-735-5416

DrugProof, Division of Dynacare/Laboratory of Pathology, LLC

1229 Madison St., Suite 500, Nordstrom Medical Tower

Seattle, WA 98104

206-386-2661 / 800-898-0180

(Formerly: Laboratory of Pathology of Seattle, Inc., DrugProof, Division of Laboratory of Pathology of Seattle, Inc.)

DrugScan, Inc.

P.O. Box 2969, 1119 Mearns Rd.

Warminster, PA 18974

215-674-9310

Dynacare Kasper Medical Laboratories*

10150-102 St., Suite 200

Edmonton, Alberta

Canada T5J 5E2

780-451-3702 / 800-661-9876

ElSohly Laboratories, Inc.

5 Industrial Park Dr.

Oxford, MS 38655

662-236-2609

Express Analytical Labs

3405 7th Ave., Suite 106

Marion, IA 52302

319-377-0500

* The Standards Council of Canada (SCC) voted to end its Laboratory Accreditation Program for Substance Abuse (LAPSA) effective May 12, 1998. Laboratories certified through that program were accredited to conduct forensic urine drug testing as required by U.S. Department of Transportation (DOT) regulations. As of that date, the certification of those accredited Canadian laboratories will continue under DOT authority. The responsibility for conducting quarterly performance testing plus periodic on-site inspection of those LAPSA-accredited laboratories was transferred to the U.S. HHS, with the HHS' NLCP contractor continuing to have an active role in the performance testing and laboratory inspection processes. Other Canadian laboratories wishing to be considered for the NLCP may apply directly to the NLCP contractor just as U.S. laboratories do.

Upon finding a Canadian laboratory to be qualified, HHS will recommend that DOT certify the laboratory (Federal Register, July 16, 1996) as meeting the minimum standards of the Mandatory Guidelines published in the Federal Register on June 9, 1994 (59 FR 29908) and on September 30, 1997 (62 FR 51118). After receiving DOT certification, the laboratory will be included in the monthly list of HHS certified laboratories and participate in the NLCP certification maintenance program.

Gamma-Dynacare Medical Laboratories *

A Division of the Gamma-Dynacare Laboratory Partnership 245 Pall Mall St.

London, ONT

Canada N6A 1P4

519-679-1630

General Medical Laboratories

36 South Brooks St.

Madison, WI 53715

608-267-6225

Kroll Laboratory Specialists, Inc.

1111 Newton St.

Gretna, LA 70053

504-361-8989 / 800-433-3823

(Formerly: Laboratory Specialists, Inc.)

LabOne, Inc.

10101 Renner Blvd.

Lenexa, KS 66219

913-888-3927 / 800-873-8845

(Formerly: Center for Laboratory Services, a Division of LabOne, Inc.)

Laboratory Corporation of America Holdings

7207 N. Gessner Rd.

Houston, TX 77040

713-856-8288 / 800-800-2387

Laboratory Corporation of America Holdings 69 First Ave.

Raritan, NJ 08869

908-526-2400 / 800-437-4986

(Formerly: Roche Biomedical Laboratories, Inc.)

Laboratory Corporation of America Holdings

1904 Alexander Dr.

Research Triangle Park, NC 27709

919-572-6900 / 800-833-3984

(Formerly: LabCorp Occupational Testing Services, Inc., CompuChem Laboratories, Inc.; CompuChem Laboratories, Inc., A Subsidiary of Roche Biomedical Laboratory; Roche CompuChem Laboratories, Inc., A Member of the Roche Group)

Laboratory Corporation of America Holdings

10788 Roselle St.

San Diego, CA 92121

800-882-7272

(Formerly: Poisonlab, Inc.)

Laboratory Corporation of America Holdings

1120 Stateline Rd. West

Southaven, MS 38671

866-827-8042 / 800-233-6339

(Formerly: LabCorp Occupational Testing Services, Inc.; MedExpress/National Laboratory Center)

Marshfield Laboratories

Forensic Toxicology Laboratory

1000 North Oak Ave.

Marshfield, WI 54449

715-389-3734 / 800-331-3734

MAXXAM Analytics Inc. *

5540 McAdam Rd.

Mississauga, ON

Canada L4Z 1P1

905-890-2555

(Formerly: NOVAMANN (Ontario) Inc.)

MedTox Laboratories, Inc.

402 W. County Rd. D

St. Paul, MN 55112

651-636-7466 / 800-832-3244

MetroLab-Legacy Laboratory Services

1225 NE 2nd Ave.

Portland, OR 97232

503-413-5295 / 800-950-5295

Minneapolis Veterans Affairs Medical Center

Forensic Toxicology Laboratory

1 Veterans Dr.

Minneapolis, MN 55417

612-725-2088

National Toxicology Laboratories, Inc.

1100 California Ave.

Bakersfield, CA 93304

661-322-4250 / 800-350-3515

Northwest Drug Testing, a division of NWT Inc.

1141 E. 3900 S.

Salt Lake City, UT 84124

801-293-2300 / 800-322-3361

(Formerly: NWT Drug Testing, NorthWest Toxicology, Inc.)

One Source Toxicology Laboratory, Inc.

1213 Genoa-Red Bluff

Pasadena, TX 77504

888-747-3774

(Formerly: University of Texas Medical Branch, Clinical Chemistry Division; UTMB Pathology-Toxicology Laboratory)

Oregon Medical Laboratories

P.O. Box 972, 722 East 11th Ave.

Eugene, OR 97440-0972

541-687-2134

Pacific Toxicology Laboratories

9348 DeSoto Ave.

Chatsworth, CA 91311

800-328-6942

(Formerly: Centinela Hospital Airport Toxicology Laboratory)

Pathology Associates Medical Laboratories

110 West Cliff Dr.

Spokane, WA 99204

509-755-8991 / 800-541-7891x8991

PharmChem Laboratories, Inc.

4600 N. Beach

Haltom City, TX 76137

817-605-5300

(Formerly: PharmChem Laboratories, Inc., Texas Division; Harris Medical Laboratory)

Physicians Reference Laboratory

7800 West 110th St.

Overland Park, KS 66210

913-339-0372 / 800-821-3627

Quest Diagnostics Incorporated

3175 Presidential Dr.

Atlanta, GA 30340

770-452-1590/800-729-6432

(Formerly: SmithKline Beecham Clinical Laboratories; SmithKline Bio-Science Laboratories)

Quest Diagnostics Incorporated

4770 Regent Blvd.

Irving, TX 75063

800-824-6152

(Moved from the Dallas location on 03/31/01; Formerly: SmithKline Beecham Clinical Laboratories; SmithKline Bio-Science Laboratories)

Quest Diagnostics Incorporated

4230 South Burnham Ave., Suite 250

Las Vegas, NV 89119-5412

702-733-7866/800-433-2750

(Formerly: Associated Pathologists Laboratories, Inc.)

Quest Diagnostics Incorporated

400 Egypt Rd.

Norristown, PA 19403

610-631-4600/877-642-2216

(Formerly: SmithKline Beecham Clinical Laboratories; SmithKline Bio-Science Laboratories)

Quest Diagnostics Incorporated

506 E. State Pkwy.

Schaumburg, IL 60173

800-669-6995/847-885-2010

(Formerly: SmithKline Beecham Clinical Laboratories; International Toxicology Laboratories)

Quest Diagnostics Incorporated

7600 Tyrone Ave.

Van Nuys, CA 91405

818-989-2520/800-877-2520

(Formerly: SmithKline Beecham Clinical Laboratories)

Scientific Testing Laboratories, Inc.

450 Southlake Blvd.

Richmond, VA 23236

804-378-9130

Sciteck Clinical Laboratories, Inc.

317 Rutledge Rd.

Fletcher, NC 28732

828-650-0409

S.E.D. Medical Laboratories

5601 Office Blvd.

Albuquerque, NM 87109

505-727-6300/800-999-5227

South Bend Medical Foundation, Inc.

530 N. Lafayette Blvd.

South Bend, IN 46601

574-234-4176 x276

Southwest Laboratories

2727 W. Baseline Rd.

Tempe, AZ 85283

602-438-8507/800-279-0027

Sparrow Health System

Toxicology Testing Center, St. Lawrence Campus

1210 W. Saginaw

Lansing, MI 48915

517-377-0520

(Formerly: St. Lawrence Hospital & Healthcare System)

St. Anthony Hospital Toxicology Laboratory

1000 N. Lee St.

Oklahoma City, OK 73101

405-272-7052

Toxicology & Drug Monitoring Laboratory

University of Missouri Hospital & Clinics

301 Business Loop 70 West, Suite 208

Columbia, MO 65203

573-882-1273

Toxicology Testing Service, Inc.

5426 N.W. 79th Ave.

Miami, FL 33166

305-593-2260

U.S. Army Forensic Toxicology Drug Testing Laboratory

2490 Wilson St.

Fort George G. Meade, MD 20755-5235

301-677-7085

Patricia Bransford,
Director, Division of Management Systems, SAMHSA.

[FR Doc. 04-12237 Filed 6-1-04; 8:45 am]

BILLING CODE 4160-20-P